ENVIRONMENTAL PROTECTION AGENCY

[FRL-8787-7]

Science Advisory Board Staff Office; Request for Nominations of Scientists and Engineers To Augment the Environmental Engineering Committee (EEC)

AGENCY: Environmental Protection Agency (EPA).

ACTION: Notice.

SUMMARY: The EPA Science Advisory Board (SAB) Staff Office is requesting nominations for scientists and engineers with expertise and direct experience in water infrastructure assessment, rehabilitation, and renewal to augment expertise on the SAB Environmental Engineering Committee (EEC).

DATES: Nominations should be submitted by April 21, 2009 per instructions below.

FOR FURTHER INFORMATION: Any member of the public wishing further information regarding this Notice and Request for Nominations may contact Mr. Edward Hanlon, Designated Federal Officer (DFO), SAB Staff Office, by telephone/voice mail at (202) 343-9946; by fax at (202) 233-0643 or via e-mail at hanlon.edward@epa.gov. General information concerning the EPA Science Advisory Board can be found at the EPA SAB Web site at http://www.epa.gov/sab. Any inquiry regarding EPA's Aging Drinking Water and Wastewater Infrastructure Research Initiative should be directed to Mr. Thomas Speth of EPA's Office of Research and Development (ORD), at speth.thomas@epa.gov or (513) 569-7208.

SUPPLEMENTARY INFORMATION: The SAB was established by 42 U.S.C. 4365 to provide independent scientific and technical advice to the EPA Administrator on the technical basis for Agency positions and regulations. The SAB is a Federal Advisory Committee chartered under the Federal Advisory Committee Act (FACA), as amended, 5 U.S.C., App. The SAB will comply with the provisions of FACA and all appropriate SAB Staff Office procedural policies. The SAB EEC provides scientific and technical advice to the EPA Administrator through the chartered SAB on risk management technologies to control and prevent pollution.

In support of EPA's Sustainable Water Infrastructure Initiative, EPA's ORD initiated a research program in 2007 to improve and evaluate innovative technologies and techniques for reducing the cost and improving the effectiveness of operations, maintenance, and replacement of aging and failing systems for drinking water and wastewater treatment and conveyance. The outputs from this research program are intended to assist EPA's program and regional offices to implement Clean Water Act and Safe Drinking Water Act requirements; to help states and tribes meet their programmatic requirements; and to assist utilities to more effectively implement comprehensive management of drinking water and wastewater treatment and conveyance systems, provide reliable service to their customers, and meet their statutory requirements. ORD's 2007 Sustainable Water Infrastructure Initiative research plan proposes work relating to infrastructure condition assessment, system rehabilitation, infusion of advanced design and management concepts, and evaluation of innovative treatment technologies. ORD requested that the SAB review and provide advice on the suitability and appropriateness of completed, existing and upcoming projects; the appropriateness of the funding vehicles; whether additional projects are needed; and the overall scope and funding of the initiative. The SAB EEC, augmented with additional experts, will conduct the consultation.

Request for Nominations

There is a need to supplement EEC expertise with scientists and engineers having experience and expertise with water infrastructure assessment, rehabilitation, and renewal. Accordingly, the SAB Staff Office is seeking nominations of nationally and internationally recognized scientists and engineers in multidisciplinary fields such as microbiology, environmental science, and chemistry; and civil, environmental, chemical, and mechanical engineering. We particularly seek scientists and engineers with specialized expertise in condition assessment, system rehabilitation, and in reducing the cost and improving the effectiveness of operations, maintenance, and replacement of aging and failing drinking water, stormwater, and wastewater treatment and conveyance systems. Also, the SAB Staff Office seeks nominations of individuals with experience in applying this expertise towards municipal infrastructure systems. Qualified nominees will be considered for serving on the EEC augmented with additional expertise to provide advice on EPA's Aging Drinking Water and Wastewater Infrastructure Research Initiative.

Process and Deadline for Submitting Nominations: Any interested person or organization may nominate individuals qualified in the area of science and engineering as described above to be considered for appointment on this SAB Committee. Candidates may also nominate themselves. Nominations should be submitted in electronic format (which is preferred over hard copy) following the instructions for “Nominating Experts to Advisory Panels and Ad Hoc Committees Being Formed” provided on the SAB Web site. The form can be accessed through the “Nomination of Experts” link on the blue navigational bar on the SAB Web site at http://www.epa.gov/sab. To receive full consideration, nominations should include all of the information requested, and should be submitted in time to arrive no later than April 21, 2009.

EPA's SAB Staff Office requests contact information about: The person making the nomination; contact information about the nominee; the disciplinary and specific areas of expertise of the nominee; the nominee's curriculum vitae; sources of recent grant and/or contract support; and a biographical sketch of the nominee indicating current position, educational background, research activities, and recent service on other national advisory committees or national professional organizations.

Persons having questions about the nomination procedures, or who are unable to submit nominations through the SAB Web site, should contact Mr. Edward Hanlon, DFO, at the contact information provided above in this notice. Non-electronic submissions must follow the same format and contain the same information as the electronic.

The SAB Staff Office will acknowledge receipt of the nomination and inform nominees of the Committee for which they have been nominated. From the nominees identified by respondents to this Federal Register notice (termed the “Widecast”) and other sources, the SAB Staff Office will develop a smaller subset (known as the “Short List”) for more detailed consideration. The Short List will be posted on the SAB Web site at http://www.epa.gov/sab and will include, for each candidate, the nominee's name and biosketch. Public comments on the Short List will be accepted for 21 calendar days. During this comment period, the public will be requested to provide information, analysis, or other documentation on nominees that the SAB Staff Office should consider in evaluating candidates for the Committee.

For the SAB, a balanced Committee is characterized by inclusion of candidates who possess the necessary domains of knowledge, the relevant scientific perspectives (which, among other factors, can be influenced by work history and affiliation), and the collective breadth of experience to adequately address the charge. Public responses to the Short List candidates will be considered in the selection of the Committee, along with information provided by candidates and information gathered by SAB Staff independently concerning the background of each candidate (e.g., financial disclosure information and computer searches to evaluate a nominee's prior involvement with the topic under review). Specific criteria to be used in evaluation of an individual Committee member include: (a) Scientific and/or technical expertise, knowledge, and experience (primary factors); (b) absence of financial conflicts of interest; (c) scientific credibility and impartiality; (d) availability and willingness to serve; and (e) ability to work constructively and effectively in committees.

Prospective candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. Ethics information, including EPA Form 3110-48, is available on the SAB Web site at http://yosemite.epa.gov/sab/sabproduct.nsf/Web/ethics?OpenDocument.

Dated: March 24, 2009.
Anthony F. Maciorowski,
Deputy Director, EPA Science Advisory Board Staff Office.

[FR Doc. E9-7185 Filed 3-30-09; 8:45 am]

BILLING CODE 6560-50-P